SECURITIES AND EXCHANGE COMMISSION

[Release No. IC-26235]

Notice of Applications for Deregistration under Section 8(f) of the Investment Company Act of 1940

October 31, 2003.

The following is a notice of applications for deregistration under section 8(f) of the Investment Company Act of 1940 for the month of October, 2003. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on November 24, 2003, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0504.

Vega Capital Corporation [File No. 811-2508]

Summary: Applicant, a closed-end investment company, seeks an order declaring that it has ceased to be an investment company. Pursuant to an order of the United States District Court for the Southern District of New York (the “Court”) dated February 24, 2000, the Court appointed the U.S. Small Business Administration as receiver of applicant. The order instructed the receiver to assume and control the operation of applicant and wind-up applicant's business. An order relating to the winding-up of the receivership was entered by the Court on September 29, 2003. Applicant's liabilities are greater than its assets, therefore no liquidating distribution was made to its shareholders. Expenses of $8,955 incurred in connection with the liquidation were paid by applicant.

Filing Dates: The application was filed on August 26, 2003 and amended on October 24, 2003.

Applicant's Address: U.S. Small Business Administration, Receiver for Vega Capital Corporation, 666 Eleventh St., NW., Suite 200, Washington, DC 20001.

ARK Funds [File No. 811-7310]

Summary: Applicant seeks an order declaring that it has ceased to be an investment company. On August 15, 2003 and August 22, 2003, applicant transferred its assets to corresponding series of MTB Group of Funds (formerly Vision Group of Funds), based on net asset value. Expenses of $130,000 incurred in connection with the reorganization were paid by M&T Bank, applicant's custodian.

Filing Dates: The application was filed on September 26, 2003, and amended on October 22, 2003.

Applicant's Address: 25 South Charles St., Baltimore, MD 21201.

Scioto Investment Company [File No. 811-2670]

Summary: Applicant, a closed-end investment company, seeks an order declaring that it has ceased to be an investment company. Applicant has never made a public offering of its securities and does not propose to make a public offering. Applicant will continue to operate as a management investment company in reliance on section 3(c)(1) of the Act.

Filing Dates: The application was filed on October 2, 2003, and amended on October 23, 2003.

Applicant's Address: 4561 Lanes End St., Columbus, OH 43220-4254.

The Italy Fund Inc. [File No. 811-4517]

Summary: Applicant, a closed-end investment company, seeks an order declaring that it has ceased to be an investment company. On February 24, 2003, applicant made a liquidating distribution to its shareholders, based on net asset value. Applicant has placed the unclaimed assets of its former shareholders who have not yet surrendered their share certificates with PFPC Global Fund Services. Any unclaimed assets remaining at the end of three years will be presumed abandoned and will escheat to the appropriate jurisdiction in accordance with relevant New York and Maryland state law. Expenses of $130,500 incurred in connection with the liquidation were paid by applicant.

Filing Dates: The application was filed on July 24, 2003, and amended on October 21, 2003.

Applicant's Address: 125 Broad St., New York, NY 10004.

Pioneer Large Cap Value Fund [File No. 811-9875]

Summary: Applicant seeks an order declaring that it has ceased to be an investment company. On September 24, 2003, applicant made a liquidating distribution to its shareholders, based on net asset value. Expenses of $4,000 incurred in connection with the liquidation were paid by Pioneer Investment Management, Inc., applicant's investment adviser.

Filing Date: The application was filed on October 1, 2003.

Applicant's Address: 60 State St., Boston, MA 02109.

Davis International Series, Inc. [File No. 811-8870]

Summary: Applicant seeks an order declaring that it has ceased to be an investment company. On July 18, 2003, applicant made a liquidating distribution to its shareholders, based on net asset value. Expenses of $3,120 incurred in connection with the liquidation were paid by applicant.

Filing Dates: The application was filed on August 20, 2003, and amended on October 14, 2003.

Applicant's Address: 2949 East Elvira Rd., Suite 101, Tucson, AZ 85706.

Pioneer Small Cap Growth Fund [File No. 811-21106]

Pioneer Aggressive Growth Fund [File No. 811-21107]

Summary: Each applicant seeks an order declaring that it has ceased to be an investment company. Applicants have never made a public offering of their securities and do not propose to make a public offering or engage in business of any kind.

Filing Date: The applications were filed on September 12, 2003.

Applicants' Address: 60 State St., Boston, MA 02109.

Quintara Funds [File No. 811-10563]

Summary: Applicant seeks an order declaring that it has ceased to be an investment company. On February 25, 2003, applicant made a liquidating distribution to its shareholders based on net asset value. Expenses of $530 incurred in connection with the liquidation were paid by applicant's investment adviser.

Filing Date: The application was filed on October 8, 2003.

Applicant's Address: 615 E. Michigan St., Milwaukee, WI 53202.

Trust for Investment Managers [File No. 811-9393]

Summary: Applicant seeks an order declaring that it has ceased to be an investment company. On June 28, 2002, applicant transferred its assets to Gilford Oakwood Equity Fund, a series of Advisors Series Trust, based on net asset value. Expenses of $96,047 incurred in connection with the reorganization were paid by U.S. Bancorp Fund Services, LLC, applicant's administrator.

Filing Dates: The application was filed on July 10, 2003, and amended on October 2, 2003.

Applicant's Address: 615 East Michigan St., Milwaukee, WI 53202.

Asset Allocation Portfolio [File No. 811-6646]

Growth Stock Portfolio [File No. 811-6647]

Bond Portfolio [File No. 811-6648]

Utilities Portfolio [File No. 811-9028]

The Growth Portfolio [File No. 811-9829]

The Aggressive Growth Portfolio [File No. 811-9831]

Summary: Each applicant seeks an order declaring that it has ceased to be an investment company. On April 11, 2003, each applicant made a liquidating distribution to its shareholders, based on net asset value. Expenses of less than $25 were incurred by each applicant in connection with the liquidations.

Filing Date: The applications were filed on September 22, 2003.

Applicants' Address: 6125 Memorial Dr., Dublin, OH 43017.

For the Commission, by the Division of Investment Management, pursuant to delegated authority.
Jill M. Peterson,
Assistant Secretary.

[FR Doc. 03-27991 Filed 11-5-03; 8:45 am]

BILLING CODE 8010-01-P